DEPARTMENT OF TRANSPORTATION

Federal Aviation Administration

Draft FAA Transition Plan to Unleaded Aviation Gasoline

AGENCY: Federal Aviation Administration (FAA), Department of Transportation (DOT).

ACTION: Notice of availability; request for comments.

SUMMARY: 2024 FAA Reauthorization Act, Section 827, directed FAA to develop a formal Transition Plan to unleaded Avgas. The FAA is seeking public comments on the draft FAA Transition Plan to Unleaded Aviation Gasoline to facilitate a structured, safe, timely, coordinated, and orderly transition to unleaded aviation gasoline alternatives while maintaining the operational efficiency of the general aviation fleet. The comprehensive framework outlined in this transition plan encompasses fuel authorizations and comparison testing, market experience, and the national transition to unleaded fuel(s).

DATES: Comments on this notice must be submitted on or before March 13, 2026.

ADDRESSES: Draft FAA Transition Plan to Unleaded Aviation Gasoline document can be viewed and receive comment submissions through the FAA's Aviation Safety Draft Documents website, https://www.faa.gov/aircraft/draft_docs.

FOR FURTHER INFORMATION CONTACT: Paul Wrzesinski, Ph.D., FAA Office of Senior Technical Experts, Aircraft Certification Service, 800 Independence Avenue SW, Washington, DC 20591, Telephone (405) 945-6626, Email paul.j.wrzesinski@faa.gov. Alternate contact: Maria DiPasquantonio, FAA Office of Senior Technical Experts, Aircraft Certification Service, 800 Independence Avenue SW, Washington, DC 20591, Telephone (202) 267-9336, Email: Maria.DiPasquantonio@faa.gov.

SUPPLEMENTARY INFORMATION: The Draft FAA Transition Plan to Unleaded Aviation Gasoline outlines strategies to safely eliminate lead aviation fuels, approve unleaded alternatives for all piston-engine aircraft, ensure continued availability of aviation gasoline, and promote widespread access to unleaded aviation gasoline at airports. Building on years of collaborative efforts through the government-industry initiative, Eliminate Aviation Gasoline Lead Emissions (EAGLE), this plan aims to transition to lead-free aviation fuels for piston-engine aircraft in a safe and efficient manner. The 2024 FAA Reauthorization Act Section 827 reinforces the critical need for this transition, mandating that FAA continue collaborations with industry and federal stakeholders to eliminate lead emissions from aviation gasoline by 2030 (2032 in Alaska).

Issued in Washington, DC, on January 6, 2026.
Caitlin E. Locke,
Executive Director, Aircraft Certification Service.

[FR Doc. 2026-00296 Filed 1-9-26; 8:45 am]

BILLING CODE 4910-13-P